DEPARTMENT OF TRANSPORTATION

Federal Railroad Administration

Petition for Waiver of Compliance

In accordance with Part 211 of Title 49 of the Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

City of Placentia, California

[Docket Number FRA-2006-24654]

The City of Placentia, California (the City) and BNSF Railway Company (BNSF) have petitioned for a third extension to the waiver originally granted on June 21, 2006, in FRA Docket Number FRA-2006-24654. In the aforementioned waiver, FRA agreed to extend the original deadline of June 24, 2006, set forth in 49 CFR 222.42 for continuation of an intermediate partial quiet zone, until September 22, 2006. On September 21, 2006, FRA granted a joint request from the City and BNSF to extend the September 22 deadline until January 20, 2007. Subsequently, on January 19, 2007, FRA granted another joint request from the City and BNSF to extend the January 20 deadline to May 20, 2007.

In the current request, the City and BNSF state that they are working towards establishing a new 24-hour quiet zone and that the City has completed installation of its quiet zone safety improvements, but they will be unable to meet the May 20, 2007, deadline due to technical problems with BNSF's radio communications system and the need to conduct a 30-day test period of the radio communications system after the installation of necessary radio equipment has been completed. The City and BNSF seek to retain the current partial quiet zone in order to avoid disruption and confusion in the interim, and state that safety will not be compromised.

Interested parties are invited to participate in these proceedings by submitting written views, data, or comments. Each comment shall specifically set forth the basis upon which it is made and contain a concise statement of the interest of the commenter in the proceeding. FRA does not anticipate the need to schedule a public hearing in connection with this proceeding since the facts do not appear to warrant a hearing. If any interested party desires an opportunity to comment, they should notify FRA in writing within 15 days of the date of publication of this notice and specify the basis for their request.

All communications concerning these proceedings should identify the docket number set forth above and may be submitted by any of the following methods:

• Web site: http://dms.dot.gov. Follow the instructions for submitting comments on the DOT electronic docket site;

• Fax: (202) 493-2251;

• Mail: Docket Management Facility, U.S. Department of Transportation, 400 7th Street, SW., Washington, DC 20590.

Communications received within 15 days of the date of this notice will be considered by FRA before final action is taken. Comments received after that date will be considered as far as practicable. FRA reserves the right to grant temporary relief to avoid lapse of the existing partial quiet zone while the comment period is open, after considering any comments filed prior to the initial date of decision. All written communications concerning this proceeding are available for examination during regular business hours (9 a.m.-5 p.m.) at the above facility. All documents in the public docket are available for inspection and copying on the Internet at the docket facility's Web site: http://dms.dot.gov.

Anyone is able to search the electronic form of all comments received into any of our dockets by the name of the individual submitting the comment (or signing the comment, if submitted on behalf of an association, business, labor union, etc.). You may review the Department of Transportation's complete Privacy Act Statement, which was published in the Federal Register on April 11, 2000 (Volume 65, Number 70; Pages 19477-78). The Privacy Act Statement may also be found at http://dms.dot.gov.

Issued in Washington, DC, on May 7, 2007.
Grady C. Cothen, Jr.,
Deputy Associate Administrator for Safety Standards and Program Development.

[FR Doc. E7-9167 Filed 5-11-07; 8:45 am]

BILLING CODE 4910-06-P